DEPARTMENT OF ENERGY

Federal Energy Regulatory Commission

[Project No. 12557-001]

SBER Royal Mills, LLC; Notice of Application Tendered for Filing With the Commission, Soliciting Additional Study Requests, and Establishing a Deadline for Submission of Final Amendments

December 19, 2007.

Take notice that the following hydroelectric application has been filed with the Commission and is available for public inspection.

a. Type of Application: Exemption From Licensing.

b. Project No.: P-12557-001.

c. Date Filed: December 12, 2007.

d. Applicant: SBER Royal Mills, LLC.

e. Name of Project: Royal Mills Hydroelectric Project.

f. Location: On the South Branch Pawtuxet River, in the town of West Warwick, Kent County, Rhode Island. This project does not occupy federal lands.

g. Filed Pursuant to: Public Utilities Regulatory Policies Act of 1978, 16 U.S.C. 2705, 2708.

h. Applicant Contact: Quentin Chafee, Development Director, Struever Bros. Eccles & Rouse, Inc., 166 Valley Street, Building 6M, Suite 103, Providence, RI 02909, (401) 574-2100, Q.Chafee@sber.com.

i. FERC Contact: Steve Kartalia, Stephen.Kartalia@ferc.gov, (202) 502-6131.

j. Cooperating Agencies: We are asking Federal, State, and local agencies and Indian tribes with jurisdiction and/or special expertise with respect to environmental issues to cooperate with us in the preparation of the environmental document. Agencies who would like to request cooperating status should follow the instructions for filing comments described in item l below.

k. Pursuant to Section 4.32(b)(7) of 18 CFR of the Commission's regulations, if any resource agency, Indian tribe, or person believes that an additional scientific study should be conducted in order to form a factual basis for complete analysis of the application on its merits, the resource agency, Indian tribe, or person must file a request for the study with the Commission no later than 60 days from the application filing date, and serve a copy of the request on the applicant.

l. Deadline for filing additional study requests and requests for cooperating agency status: February 11, 2008.

All documents (original and eight copies) should be filed with: Kimberly D. Bose, Secretary, Federal Energy Regulatory Commission, 888 First Street, NE, Washington, DC 20426.

Additional study requests may be filed electronically via the Internet in lieu of paper. The Commission strongly encourages electronic filing. See 18 CFR 385.2001(a)(1)(iii) and the instructions on the Commission's Web site (http://www.ferc.gov) under the “eFiling” link. After logging into the eFiling system, select “Comment on Filing” from the Filing Type Selection screen and continue with the filing process.”

m. The application is not ready for environmental analysis at this time.

n. Project Description: The Royal Mills Hydroelectric Project would consist of the following facilities: (1) an existing 110-foot-long by 21-foot-high granite block dam; (2) the existing 3.8-acre reservoir, (3) an existing 150-foot-long by 40-foot-wide power canal; (4) an existing powerhouse containing one single new cross-flow turbine generating unit with total installed generating capacity of 225 kilowatts (kW); and (5) appurtenant facilities. The restored project would have an estimated average annual generation of 1,000,000 kilowatt-hours. The dam and existing project facilities are owned by the applicant.

o. A copy of the application is on file with the Commission and is available for public inspection. This filing may also be viewed on the Web at http://www.ferc.gov using the “eLibrary” link. Enter the docket number, excluding the last three digits in the docket number filed to access the documents. For assistance, please contact FERC Online Support at FERCOnlineSupport@ferc.gov or toll free at (866) 208-3676 or for TTY, contact (202) 502-8659. A copy is also available for inspection and reproduction at the address in item h above.

p. You may also register online at http://www.ferc.gov/docs-filing/esubscription.asp to be notified via e-mail of new filings and issuances related to this or other pending projects. For assistance, contact FERC Online Support.

q. With this notice, we are initiating consultation with the RHODE ISLAND HISTORIC PRESERVATION OFFICER (SHPO), as required by § 106, National Historic Preservation Act, and the regulations of the Advisory Council on Historic Preservation, 36 CFR 800.4.

r. Final amendments:

Final amendments to the application must be filed with the Commission no later than 30 days from the issuance date of the notice of ready for environmental analysis.

Kimberly D. Bose,
Secretary.

[FR Doc. E7-25326 Filed 12-28-07; 8:45 am]

BILLING CODE 6717-01-P